ENVIRONMENTAL PROTECTION AGENCY

40 CFR PART 52

[R05-OAR-2005-IN-0008; FRL-7997-7]

Determination of Attainment, Approval and Promulgation of Implementation Plans and Designation of Areas for Air Quality Planning Purposes; Indiana; Redesignation of Delaware County to Attainment of the 8-Hour Ozone Standard

AGENCY: Environmental Protection Agency (EPA).

ACTION: Proposed rule.

SUMMARY: EPA is proposing to make a determination that the Delaware County ozone nonattainment area has attained the 8-hour ozone National Ambient Air Quality Standard (NAAQS). This proposed determination is based on three years of complete, quality-assured ambient air quality monitoring data for the period of 2002-2004 that demonstrate that the 8-hour ozone NAAQS has been attained in the area.

EPA is proposing to approve a request from the State of Indiana to redesignate Delaware County to attainment of the 8-hour ozone NAAQS. This request was submitted by the Indiana Department of Environmental Management (IDEM) on August 25, 2005. In proposing to approve this request, EPA is also proposing to approve the State's plan for maintaining the 8-hour ozone NAAQS through 2015 in this area as a revision to the Indiana State Implementation Plan (SIP). EPA is also proposing to find adequate and approve the State's 2015 Motor Vehicle Emission Budgets (MVEBs) for this area.

In the final rules section of this Federal Register, EPA is approving the State's ozone redesignation request and the requested SIP revision as a direct final rule without prior proposal because EPA views this action as non-controversial and anticipates no adverse comments. A detailed rationale for the approval is set forth in the direct final rule. If we do not receive any adverse comments in response to these direct final and proposed rules, we do not contemplate taking any further action in relation to this proposed rule. If EPA receives adverse comments with respect to this rule, we will publish a timely withdrawal of the action, informing the public that the rule will not take effect. EPA will respond to the public comments in a subsequent final rule based on this proposed rule. EPA will not institute a second comment period on this action. Any parties interested in commenting on this action should do so at this time.

DATES: Written comments must be received on or before December 16, 2005.

ADDRESSES: Submit comments, identified by Regional Material in EDocket (RME) ID No. R05-OAR-2005-IN-0008, by one of the following methods:

1. Federal eRulemaking Portal: http://www.regulations.gov. Follow the on-line instructions for submitting comments.

2. Agency Web site: http://docket.epa.gov/rmepub/. RME, EPA's electronic public docket and comments system, is EPA's preferred method for receiving comments. Once in the system, select “quick search,” then key in the appropriate RME Docket identification number. Follow the on-line instructions for submitting comments.

3. E-mail: mooney.john@epa.gov.

4. Fax: (312) 886-5824.

5. Mail: You may send written comments to: John M. Mooney, Chief, Criteria Pollutant Section, (AR-18J), U.S. Environmental Protection Agency, Region 5, 77 West Jackson Boulevard, Chicago, Illinois 60604.

6. Hand delivery: Deliver your comments to: John M. Mooney, Chief, Criteria Pollutant Section, (AR-18J), U.S. Environmental Protection Agency, Region 5, 77 West Jackson Boulevard, 18th floor, Chicago, Illinois 60604. Such deliveries are only accepted during the Regional Office's normal hours of operation. The Regional Office's official hours of business are Monday through Friday, 8:30 a.m. to 4:30 p.m. excluding Federal holidays.

Instructions: Direct your comments to RME ID No. R05-OAR-2005-IN-0008. EPA's policy is that all comments received will be included in the public docket without change, including any personal information provided and may be made available online at http://docket.epa.gov/rmepub/, unless the comment includes information claimed to be Confidential Business Information (CBI) or other information whose disclosure is restricted by statute. Do not submit information that you consider to be CBI or otherwise protected through RME, regulations.gov, or e-mail. The EPA RME Web site and the Federal regulations.gov Web site are “anonymous access” systems, which means EPA will not know your identity or contact information unless you provide it in the body of your comment. If you send an e-mail comment directly to EPA without going through RME or regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the RME index at http://docket.epa.gov/rmepub/. Although listed in the index, some information is not publicly available, i.e., CBI or other information whose disclosure is restricted by statute. Certain other material, such as copyrighted material, is not placed on the Internet and will be publicly available only in hard copy form. Publicly available docket materials are available either electronically in RME or in hard copy at the Environmental Protection Agency, Region 5, Air and Radiation Division, 77 West Jackson Boulevard, Chicago, Illinois 60604. We recommend that you telephone Edward Doty, Environmental Scientist, at (312) 886-6057 before visiting the Region 5 office. This Facility is open from 8:30 a.m. to 4:30 p.m., Monday through Friday, excluding Federal holidays.

FOR FURTHER INFORMATION CONTACT: Edward Doty, Environmental Scientist, Criteria Pollutant Section, Air Programs Branch (AR-18J), U.S. Environmental Protection Agency, Region 5, 77 West Jackson Boulevard, Chicago, Illinois 60604, (312) 886-6057, doty.edward@epa.gov.

SUPPLEMENTARY INFORMATION: Throughout this document whenever “we,” “us,” or “our” is used, we mean EPA.

I. What Action Is EPA Taking?

EPA is proposing to take several related actions. EPA is proposing to make a determination that the Delaware County, Indiana nonattainment area has attained the 8-hour ozone standard and that Delaware County has met the requirements for redesignation under section 107(d)(3)(E) of the Clean Air Act. EPA is thus proposing to approve a request to change the legal designation of Delaware County from nonattainment to attainment for the 8-hour ozone NAAQS. EPA is also proposing to approve Indiana's maintenance plan as a SIP revision for Delaware County (such approval being one of the Clean Air Act criteria for redesignation of an area to attainment status). The maintenance plan is designed to keep Delaware County in attainment of the ozone NAAQS for the next 10 years. Additionally, EPA is announcing its action on the Adequacy Process for the newly-established 2015 Volatile Organic Compounds (VOC) and Nitrogen Oxides (NOX) MVEBs for this area. The Adequacy comment periods for the 2015 MVEBs began on August 2, 2005, with EPA's posting of the availability of the State's submittal on EPA's Adequacy Web site at: http://www.epa.gov/otaq/transp/conform/adequacy.htm. The Adequacy comment period for these MVEBs ended on September 1, 2005. No requests for this submittal or adverse comments on this submittal were received during the Adequacy comment periods. Please see the Adequacy Section of this rulemaking for further explanation on this process. Therefore, we are finding adequate and approving the State's 2015 VOC and NOX MVEBs for transportation conformity purposes.

II. Where Can I Find More Information About This Proposal and the Corresponding Direct Final Rule?

For additional information, see the Direct Final Rule which is located in the Rules section of this Federal Register. Copies of the request and the EPA's analysis are available electronically at RME or in hard copy at the above address. (Please telephone Edward Doty at (312) 886-6057 before visiting the Region 5 Office.)

Dated: November 9, 2005.
Margaret Guerriero,
Acting Regional Administrator, Region 5.

[FR Doc. 05-22695 Filed 11-15-05; 8:45 am]

BILLING CODE 6560-50-P